DEPARTMENT OF COMMERCE

International Trade Administration

[A-570-601]

Tapered Roller Bearings and Parts Thereof, Finished and Unfinished, From the People's Republic of China: Extension of Time Limit for the Preliminary Results of the 2009-2010 Administrative Review of the Antidumping Duty Order

AGENCY: Import Administration, International Trade Administration, Department of Commerce.

FOR FURTHER INFORMATION CONTACT: Frances Veith or Demitrios Kalogeropoulos, AD/CVD Operations, Import Administration, International Trade Administration, U.S. Department of Commerce, 14th Street and Constitution Avenue, NW., Washington, DC 20230, telephone: (202) 482-4295 or (202) 482-2623, respectively.

SUPPLEMENTARY INFORMATION:

Background

On July 28, 2010, the Department of Commerce (“the Department”) initiated the administrative review of the antidumping duty order on tapered roller bearings and parts thereof, finished and unfinished, from the People's Republic of China (“PRC”) for the period June 1, 2009, through May 31, 2010. See Initiation of Antidumping and Countervailing Duty Administrative Reviews and Requests for Revocations in Part, 75 FR 44224 (July 28, 2010). The preliminary results are currently due no later than March 2, 2011.

Statutory Time Limits

Section 751(a)(3)(A) of the Tariff Act of 1930, as amended (“the Act”), requires the Department to make a preliminary determination in an administrative review within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit of Preliminary Results

The Department finds it is not practicable to complete the preliminary results of this review within the original time limit because we require additional time to analyze questionnaire and supplemental questionnaire responses, to issue additional supplemental questionnaires if necessary, and to evaluate the most appropriate surrogate values on the administrative record to use in this segment of the proceeding. Accordingly, the Department is extending the time limit for completion of the preliminary results of this administrative review by the full 120 days allowed under section 751(a)(3)(A) of the Act. An extension of 120 days from this revised deadline would result in a new deadline of June 30, 2011, for the publication of the preliminary results. The final results continue to be due 120 days after the publication of the preliminary results.

We are issuing and publishing this notice in accordance with sections 751(a)(3)(A) and 777(i)(1) of the Act.

Dated: February 15, 2011.
Christian Marsh,
Deputy Assistant Secretary for Antidumping and Countervailing Duty Operations.

[FR Doc. 2011-4169 Filed 2-23-11; 8:45 am]

BILLING CODE 3510-DS-P